DEPARTMENT OF HEALTH AND HUMAN SERVICES

Office of the Secretary

[Document Identifier: OS-0990-0238]

Agency Information Collection Activities: Submission for OMB Review; Comment Request

AGENCY: Office of the Secretary, HHS.

In compliance with the requirement of section 3506(c)(2)(A) of the Paperwork Reduction Act of 1995, the Office of the Secretary, Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

#1 Type of Information Collection Request: Extension of a currently approved collection;

Title of Information Collection: Patient Follow-up Survey for the Multi-Site Evaluation of the Welfare-to-Work Grant Program;

Form/OMB No.: OS-0990-0238;

Use: This data collection will support the Office of the Assistant Secretary for Planning and Evaluation in its efforts to further documents the status of Welfare-to-Work formula and competitive grantees and provide information on implementation issues as part of the Congressionally mandated evaluation of the Welfare-to-Work grants program;

Frequency: On occasion;

Affected Public: Individuals, State, Local or Tribal Governments, Non-profit Institutions;

Annual Number of Respondents: 4,164;

Total Annual Responses: 4,164;

Average Burden Per Response: 27 minutes;

Total Annual Hours: 1,879.

#2 Type of Information Collection Request: New Collection;

Title of Information Collection: National Community Centers of Excellence (CCOE) in Women's Health Evaluation: Survey for CCOE Center Directors, Program Coordinators, and Patients;

Form/OMB No.: OS-0990-OWH-NEW;

Use: This survey will assess the ability of community-based organizations to provide comprehensive, integrated, holistic care to underserved women employing a network of community partners and to assess patient satisfaction with the care received. Results will be used to determine if the CCOE program will be continued and if so, with what modifications. The effort employees four collection instruments, which include; (1) CCOE Center Director and Program Coordinator Survey, (2) CCOE Community Partner Survey, (3) CCOE Patient Survey, and (4) CCOE Site Visit. The numbers referenced below are in aggregate. See the associated supporting statement for individualized burden calculations.

Frequency: One-time;

Affected Public: Individuals and households, Businesses or other for-profit, not-for-profit institutions;

Annual Number of Respondents: 6,210;

Total Annual Responses: 6,210;

Average Burden Per Response: 17 minutes;

Total Annual Hours: 1,711.

#3 Type of Information Collection Request: New Collection;

Title of Information Collection National Women's Health Information Center (NWHIC) Customer Satisfaction Questionnaire;

Form/OMB No.: OS-0990-OWH-NEW-CSS;

Use: The OWH plans to send a customer satisfaction questionnaire to users of NWHIC who have called the 1-800 number. Since its launch in 1998, NWHIC's toll-free number and services have not been evaluated to determine how well it has been fulfilling its goals. The survey is intended to assess the effectiveness of OWH in disseminating information through NWHIC. A random sample of 1,556 NWHIC users (with consent) will be mailed a survey and follow-up letter;

Frequency: One Time;

Affected Public: Individuals;

Annual Number of Respondents: 1,245;

Total Annual Responses: 1,245;

Average Burden Per Response: 9 minutes;

Total Annual Hours: 144.

To obtain copies of the supporting statement and any related forms for the proposed paperwork collections referenced above, or E-mail your request, including your address, phone number, OS document identifier, to John.Burke@hhs.gov, or call the Reports Clearance Office on (202) 690-8356. Written comments and recommendations for the proposed information collections must be mailed within 30 days of this notice directly to the OMB desk officer: OMB Human Resources and Housing Branch, Attention: Allison Eydt (OMB #0990-0238), New Executive Office Building, Room 10235, Washington, DC 20503.

Dated: June 12, 2003.
John P. Burke, III,
Paperwork Reduction Act Reports Clearance Officer, Office of the Secretary, Department of Health and Human Services.

[FR Doc. 03-15829 Filed 6-23-03; 8:45 am]

BILLING CODE 4150-04-P